DEPARTMENT OF AGRICULTURE

Forest Service

Fish Passage and Aquatic Habitat Restoration at Hemlock Dam, Gifford Pinchot National Forest, Skamania County, Washington

AGENCY: Forest Service, USDA.

ACTION: Notice of intent to prepare an environmental impact statement.

SUMMARY: The Forest Service will prepare an environmental impact statement (EIS) to restore migratory fish passage, and aquatic and riparian habitat at Hemlock Dam on Trout Creek. The Forest is proposing to remove Hemlock Dam, partially dredge the reservoir, restore 2000 feet of the original creek channel, and revegetate the affected riparian areas with native plants. In 1998 the United States National Marine Fisheries Service declared the Lower Columbia steelhead as threatened for extinction, in accordance with the Endangered Species Act. Hemlock Dam and the associated fish ladder and reservoir have been identified as key factors leading to the decline of the wild steelhead in the Trout Creek system. In addition, an inspection of the dam in 2000 by the Washington State Department of Ecology elevated the safety rating of the dam to “High” for the “Downstream Hazard Potential”. A failure of the dam during a 100-year food event would threaten life and property downstream. Also, considerable environmental damage would occur in Trout Creek and the Wind River from the sudden release of the sediment in the reservoir. Removing the dam and implementing the associated channel restoration would: eliminate the need for a fish ladder and restore the stream to provide safe and efficient migratory fish passage; restore aquatic and riparian habitat; lower water temperatures; and restore natural movement of sediment and organic material within the system. Dam removal would address the “High” Downstream Hazard Potential associated with the dam and sediment-filled reservoir. Developing recreation features at the site compatible with dam removal, and interpretive facilities to tell the history of the dam, are also intended outcomes of this proposal. The proposed action would be implemented under the direction of the Gifford Pinchot National Forest Land and Resource Management Plan (1990) as amended by the Record of Decision for Amendments to Forest Service and Bureau of Land Management Planning Documents Within the Range of the Northern Spotted Owl (1994), referred to as the Northwest Forest Plan.

DATES: Comments concerning the issues and scope of this proposal must be received by October 31,2001 to be used for refining this proposed action or developing alternatives to the proposal. While public participation in this analysis is welcome at any time, comments received on or before September 17, 2001 will be especially useful in the preparation of the draft EIS.

ADDRESSES: Send comments via post mail to Hemlock Dam Planning Team, Mount Adams Ranger District, 2455 Highway 141, Trout Lake, Washington 98650. Comments via e-mail to r6_gp_@fs.fed.us Subject: Hemlock Dam EIS.

FOR FURTHER INFORMATION CONTACT: For technical information: call Ken Wieman, 509-395-3385; for planning process information: call Julie Knutson, 509-395-3378.

SUPPLEMENTARY INFORMATION: The Trout Creek steelhead population has been on a precipitous decline since the late 1980's. Approximately 50% of the entire Wind River native steelhead production historically came from Trout Creek; it now represents less than 10 percent of the Wind River wild steelhead population. The genetic diversity of Trout Creek steelhead is at risk as a result of a precariously low adult population. Inconsistent and ineffective water flow conditions below the dam, inefficient fish ladder design, ineffective downstream travel routes, and adult trap operations are all sources of fish mortality and or/impediments to safe and efficient fish passage. Trout Creek also has surpassed water temperature limits lethal to fish, frequently exceeding the State water quality maximum temperature standard (16 degrees C.). The reservoir created by Hemlock Dam compounds the water temperature problem in Trout Creek by slowing the movement of water, and exposing the large surface area of the lake to the sun. it also impedes the natural movement of sediment and organic material, impacting the downstream aquatic ecosystem. The goals of restoration efforts in the Wind River Watershed have been to accelerate the recovery of riparian, in-stream habitat and water quality. Through the watershed analysis for the Wind River, initially conducted in 1996 and updated in 2000, removal of Hemlock Dam was recommended for removal to help accomplish the restoration goals.

The inspection of the dam in 2000 by the Department of Ecology (DOE) found the dam to be fairly well maintained. Due to the high sediment load behind the dam, however, and the lack of information on the original dam design specification for silt loads, the State Department of Ecology elevated the safety rating of the dam to “High” for the “Downstream Hazard Potential”. Due to this rating, the DOE requires an analysis of the dam to determine its stability. This analysis will be undertaken concurrent with this proposal to remove the dam since the information will be relevant when evaluating the no action alternative, or any alternatives that propose to keep the dam in place.

The Gifford Pinchot National Forest commissioned a preliminary study with Washington State University in 1999 to evaluate feasible options to improve fish passage at Hemlock Dam. This preliminary study provides the basis for our proposal to remove the dam.

Several key issues related to the removal of Hemlock Dam have been identified to date. They include: (1) Cultural Resources—Loss of the dam and fish ladder and protection of prehistoric and historic sites within the vicinity of the dam are the key cultural resource issues. Hemlock Dam and the fish ladder are historic structures completed in 1936 by the Civilian Conservation Corps, and are eligible for inclusion in the National Register of Historic Places. The dam was constructed in order to provide hydroelectric power for the Ranger District and Nursery, as well as to provide recreational opportunities for local residents. In 1958 the dam was retooled to serve as a source of irrigation for the nursery. The need for irrigation ceased in 1997 with the closure of the nursery. (2) Recreation—Hemlock Lake has continued to provide recreational opportunities since the dam was constructed. While the lake conditions and uses have changed over time, the lake currently provides a shallow, warm water play area popular with people of all ages during the summer months, particularly families with young children. Removing the dam would mean a loss of the lake and the current recreation opportunities. (3) Wetlands—Over time, wetlands have developed in the backwaters of Hemlock Lake and now support plant and animal species that rely on wetland habitat. Removing the dam could reduce or eliminate these unique habitats, as well as affect pond-dwelling species.

Two alternatives to full dam removal provided by the WSU study address the above issues, in whole or part: (1) Notch the dam, construct a new fish ladder, and create an “off-channel” pond for recreation opportunities; (2) leave the dam in place, dredge the reservoir, and construct a new fish ladder.

Permits required for dam removal include the Hydrologic Permit Approval (HPA) from the Washington Department of Fish and Wildlife; Approval to Allow Temporary Exceedance of Water Quality Standards from the Washington Department of Ecology; Section 404 permit to discharge or excavate dredged or fill material and mechanized land clearing in waters, including wetlands, form the U.S. Army Corps of Engineers; a Section 401 Water Quality Certification issued by the Department of Ecology under 33 U.S.C. 401 and 1344; and a Shoreline Substantial Development, Conditional Use, Variance permit, or Exemption required for work activity in the 100-year floodplain, issued by Skamania County, Washington.

This Notice and subsequent scoping notices will satisfy the requirements under 36 CFR 800.2(d) for seeking the views of the public on the potential effects of an undertaking on historic properties. A public open house was held on May 31, 2001, in Stevenson, Washington to provide information about the dam, status of the steelhead in the Wind River system, and opportunities for improving fish passage and habitat, including removal of the dam. The specific need and format for additional meetings and workshops will be determined by the comments received from the May open house, this notice, and responses by individuals and organization contacted via the Hemlock Dam EIS Scoping Communication Plan. A web site will be established in the near future on the Gifford Pinchot National Forest World Wide Web to enable interested parties to access project information directly.

Continued scoping and public participation efforts will be used by the interdisciplinary planning team to identify new issues, develop alternatives in response to the issues, and determine the level of analysis needed to disclose potential biological, physical, economic and social impacts associated with the project. The Forest Service is seeking information, comments, and assistance from other agencies, organizations or individuals who may be interested in or affected by the proposed project. The input will be used in preparation of the draft EIS. The scoping process will be used to:

Identify potential issues;

Identify major issues to be analyzed in depth;

Identify alternatives to the proposed action; and

Identify potential environmental effects of the proposed action and alternatives (i.e., direct, indirect, and cumulative effects).

The draft EIS is expected to be filed with the Environmental Protection Agency (EPA) and to be available for public review by September 2002. The comment period on the draft environmental impact statement will be 45 days from the date the notice of availability is published in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement. To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

The final EIS is anticipated to be completed by December, 2003. In the final EIS, the Forest Service is required to respond to substantive comments received during the comment period for the draft EIS. Gregory L. Cox, Mount Adams District Ranger, is the Responsible Official. He will decide, which, if any, of the proposed project alternatives will be implemented. His decision and reasons for the decision will be documented in the Record of Decision, which will be subject to Forest Service Appeal Regulations (36 CFR part 217).

Dated: August 9, 2001.
Claire Lavendel,
Forest Supervisor.

[FR Doc. 01-20621 Filed 8-15-01; 8:45 am]

BILLING CODE 3410-11-M